DEPARTMENT OF AGRICULTURE

Forest Service

Fremont and Winema Resource Advisory Committee

AGENCY: Forest Service, USDA.

ACTION: Notice of meeting.

SUMMARY: The Fremont and Winema Resource Advisory Committee will meet in Klamath Falls Oregon, for the purpose of evaluating and recommending resource management projects for funding in FY 2013, under the provisions of Title II of the Secure Rural Schools and Community Self-Determination Act of 2000 (reauthorized in 2008, extended for one year through September 30, 2013).

DATES: The meeting will be held on August 23, 2012.

ADDRESSES: The meeting will take place at the Klamath Ranger District Office, 2819 Dahlia Street, Suite A, Klamath Falls, Oregon, 97601.

Send written comments to Fremont and Winema Resource Advisory Committee, c/o USDA Forest Service, Klamath Ranger District, 2819 Dahlia, Suite A, Klamath Falls, Oregon or electronically to agowan@fs.fed.us.

FOR FURTHER INFORMATION CONTACT: Amy Gowan, Designated Federal Official, c/o Klamath Ranger District, 2819 Dahlia, Suite A, Klamath Falls, Oregon, telephone (541) 883-6741.

SUPPLEMENTARY INFORMATION: The agenda will include a review, and evaluation, of FY 2013 Title II proposals including presentations by project proponents. Business items will include the prioritization and ranking of proposals by the RAC, including final recommendations for funding of fiscal year 2013 projects.

All Fremont and Winema Resource Advisory Committee Meetings are open to the public. There will be a time for public input and comment. Interested citizens are encouraged to attend.

Dated: August 3, 2012.
Amy Gowan,
Designated Federal Official.

[FR Doc. 2012-19633 Filed 8-9-12; 8:45 am]

BILLING CODE 3410-11-P